DEPARTMENT OF EDUCATION

Applications for New Awards; Expanding Opportunity Through Quality Charter Schools Program (CSP)—State Charter School Facilities Incentive Grant (SFIG) Program

AGENCY: Office of Elementary and Secondary Education, Department of Education.

ACTION: Notice.

SUMMARY: The Department of Education (Department) is issuing a notice inviting applications for fiscal year (FY) 2024 for the SFIG Program, Assistance Listing Number (ALN) number 84.282D. This notice relates to the approved information collection under OMB control number 1855-0012.

DATES:

Applications Available: April 24, 2024.

Notice of Intent to Apply: Applicants are strongly encouraged but not required to submit a notice of intent to apply by June 24, 2024. Applicants who do not meet this deadline may still apply.

Deadline for Transmittal of Applications: July 23, 2024.

Deadline for Intergovernmental Review: September 23, 2024.

Pre-Application Webinar Information: The SFIG Program intends to hold a webinar designed to provide technical assistance to interested applicants. Detailed information regarding this webinar will be provided on the SFIG Program web page at https://oese.ed.gov/offices/office-of-discretionary-grants-support-services/charter-school-programs/state-charter-school-facilities-incentive-grants/.

Note: For new potential grantees unfamiliar with grantmaking at the Department, please consult our “Getting Started with Discretionary Grant Applications web page at https://www2.ed.gov/fund/grant/about/discretionary/index.html.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs.

FOR FURTHER INFORMATION CONTACT: Clifton Jones, U.S. Department of Education, 400 Maryland Avenue SW, Washington, DC 20202-5970. Telephone: (202) 205-2204. Email: charter.facilities@ed.gov.

If you are deaf, hard of hearing, or have a speech disability and wish to access telecommunications relay services, please dial 7-1-1.

SUPPLEMENTARY INFORMATION:

Full Text of Announcement

I. Funding Opportunity Description

Purpose of Program: The SFIG Program is authorized under Title IV, Part C of the Elementary and Secondary Education Act of 1965, as amended by Every Student Succeeds Act (ESEA) (20 U.S.C. 7221k). Through the SFIG Program, the Department provides grants to eligible States to help them establish or enhance, and administer, a per-pupil facilities aid program for charter schools in the State, that is specified in State law, and provides annual financing, on a per-pupil basis, for charter school facilities.

Background:

Lack of access to adequate facilities is one of the biggest obstacles to creating and expanding charter schools as cited by charter school leaders.¹ In 2021, the Government Accountability Office (GAO) issued a report identifying the challenges charter schools encounter with locating and securing charter school facilities and government assistance that can address these challenges, such as per-pupil allowances, which provide extra funds to help cover facility expenses. In this report, the GAO identified the following four challenges unique to charter schools when trying to secure charter school facilities and funding: (1) affordability and limited access to State and local funding, and affordable private loans as well as rising real estate costs and renovation expenses; (2) availability of safe and secure building space and lack of amenities (e.g., a cafeteria or playground) and limited access to buildings; (3) inconsistent assistance for charter school facilities' needs and, (4) limited staff expertise in facilities management.²

¹ https://facilitycenter.publiccharters.org/school-leaders.

² K-12 Education: Challenges Locating and Securing Charter School Facilities and Government Assistance—Briefing to the Republican Leader, House Committee on Education and Labor—August 2, 2021.

The Secretary has encouraged all stakeholders to “Raise the Bar: Lead the World” in education to provide opportunities for students to reach new heights in the classroom, in their careers, and in their lives and communities, making a positive difference in the world for generations to come. Ensuring students have access to safe, healthy, sustainable, and equitable physical learning environments is a critical component of the “Raise the Bar: Lead the World” initiative. The SFIG Program can support charter schools that serve students from low-income backgrounds and students of color located in low-resourced, underfunded areas in providing access to high-quality facilities.3 4 The Secretary also seeks to address challenges novice applicants may face, including supporting States in their efforts to establish and enhance or administer a per-pupil facilities aid program for charter schools.

³ National Alliance for Public Charter Schools (2018). Strengthening Federal Investment in Charter School Facilities.

⁴ National Charter School Resource Center (2020). A Synthesis of Research on Charter School Facilities. Bethesda, MD: Manhattan Strategy Group.

Priority: This notice includes a competitive preference priority. In accordance with 34 CFR 75.105(b)(2)(ii), this priority is from 34 CFR 226.14(b).

Competitive Preference Priority: For FY 2024 and any subsequent year in which we make awards from the list of unfunded applications from this competition, this priority is a competitive preference priority.

Under 34 CFR 75.105(c)(2)(i) we award an additional 10 points to those applicants that meet this priority.

This priority is:

Applicants that have not previously received a grant under the program.

Definitions:

The following definitions are from sections 4310(1), 4310(2), 4304(k)(1), and 8101(48) of the ESEA (20 U.S.C. 7221i(1), 7221i(2), 7221c(k)(1), 7801)), and 34 CFR 77.1(c).

Ambitious means promoting continued, meaningful improvement for program participants or for other individuals or entities affected by the grant or representing a significant advancement in the field of education research, practices, or methodologies. When used to describe a performance target, whether a performance target is ambitious depends upon the context of the relevant performance measure and the baseline for that measure. (34 CFR 77.1)

Authorized public chartering agency means a State educational agency, local educational agency, or other public entity that has the authority pursuant to State law and approved by the Secretary to authorize or approve a charter school. (Section 4310(1) of the ESEA)

Charter school means a public school that—

(a) In accordance with a specific State statute authorizing the granting of charters to schools, is exempt from significant State or local rules that inhibit the flexible operation and management of public schools, but not from any rules relating to the other requirements in section 4310 of the ESEA;

(b) Is created by a developer as a public school, or is adapted by a developer from an existing public school, and is operated under public supervision and direction;

(c) Operates in pursuit of a specific set of educational objectives determined by the school's developer and agreed to by the authorized public chartering agency;

(d) Provides a program of elementary or secondary education, or both;

(e) Is nonsectarian in its programs, admissions policies, employment practices, and all other operations, and is not affiliated with a sectarian school or religious institution;

(f) Does not charge tuition;

(g) Complies with the Age Discrimination Act of 1975 (42 U.S.C. 6101 et seq.), title VI of the Civil Rights Act of 1964 (42 U.S.C. 2000d et seq.), title IX of the Education Amendments of 1972 (20 U.S.C. 1681 et seq.), section 504 of the Rehabilitation Act of 1973 (29 U.S.C. 794), the Americans with Disabilities Act of 1990 (42 U.S.C. 12101 et seq.), section 444 of the General Education Provisions Act (20 U.S.C. 1232g) (commonly referred to as the “Family Educational Rights and Privacy Act of 1974”), and part B of the Individuals with Disabilities Education Act (20 U.S.C. 1411 et seq.);

(h) Is a school to which parents choose to send their children, and that—

(i) Admits students on the basis of a lottery, consistent with section 4303(c)(3)(A) of the ESEA (20 U.S.C. 7221b(c)(3)(A)), if more students apply for admission than can be accommodated; or

(ii) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in paragraph (h)(i);

(i) Agrees to comply with the same Federal and State audit requirements as do other elementary schools and secondary schools in the State, unless such State audit requirements are waived by the State;

(j) Meets all applicable Federal, State, and local health and safety requirements;

(k) Operates in accordance with State law;

(l) Has a written performance contract with the authorized public chartering agency in the State that includes a description of how student performance will be measured in charter schools pursuant to State assessments that are required of other schools and pursuant to any other assessments mutually agreeable to the authorized public chartering agency and the charter school; and

(m) May serve students in early childhood education programs or postsecondary students. (Section 4310(2) of the ESEA)

Note: Pursuant to the definition of authorized public chartering agency in section 4310(1) of the ESEA, for a school to qualify as a charter school under section 4310(2) and receive Federal CSP funds, the grantee must assure that each charter school served was authorized by an “authorized public charter agency” as defined in section 4310(1) of the ESEA. Section 4310(1) of the ESEA defines an “authorized public charter agency” as”a State educational agency, local educational agency, or other public entity that has the authority pursuant to State law and approved by the Secretary to authorize or approve a charter school.”

Performance measure means any quantitative indicator, statistic, or metric used to gauge program or project performance. (34 CFR 77.1)

Performance target means a level of performance that an applicant would seek to meet during the course of a project or as a result of a project. (34 CFR 77.1)

Per-pupil facilities aid program means a program in which a State makes payments, on a per-pupil basis, to charter schools to provide the schools with financing—

(a) That is dedicated solely to funding charter school facilities; or

(b) A portion of which is dedicated for funding charter school facilities. (20 U.S.C. 7221c(k)(1))

Public means as applied to an agency, organization, or institution that the agency, organization, or institution is under the administrative supervision or control of a government other than the Federal Government. (34 CFR 77.1)

State means each of the 50 States, the District of Columbia, the Commonwealth of Puerto Rico, and each of the outlying areas. (section 8101(48) of the ESEA)

Program Authority: Title IV, Part C Section 4304 of the ESEA, as amended (20 U.S.C. 7221(c)).

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474 and 2 CFR part 184. (d) The regulations for this program in 34 CFR part 226.

II. Award Information

Type of Award: Discretionary grants.

Estimated Available Funds: For FY 2024, the Administration received $440,000,000 for the CSP, of which we would use an estimated $30,000,000 for awards under this competition.

Contingent upon the availability of funds and the quality of applications, we may make additional awards in subsequent years from the list of unfunded applications from this competition.

Estimated Range of Awards: $1,000,000 to $10,000,000.

Estimated Average Size of Awards: $10,000,000.

Estimated Number of Awards: 1-3.

Note: The Department is not bound by any estimates in this notice.

Project Period: Up to 60 months.

III. Eligibility Information

1. Eligible Applicants: States. In order to be eligible to receive a grant, a State shall establish or enhance, and administer, a per-pupil facilities aid program for charter schools in the State, that—

(a) Is specified in State law; and

(b) Provides annual financing, on a per-pupil basis, for charter school facilities.

Note: A State that is required under State law to provide charter schools with access to adequate facility space, but that does not have a per-pupil facilities aid program for charter schools specified in State law, is eligible to receive a grant if the State agrees to use the funds to develop a per-pupil facilities aid program consistent with the requirements in this notice inviting applications.

2. a. Cost Sharing or Matching: Under section 4304(k)(2)(C) of the ESEA, a State must provide a State share of the total cost of the project. The minimum State share of the total cost of the project increases each year of the grant, from:

• 10 percent in the first year

• 20 percent in the second year

• 40 percent in the third year

• 60 percent in the fourth year

• 80 percent in the fifth year.

Note: A State may partner with one or more organizations, and such organizations may provide up to 50 percent of the State share of the cost of establishing or enhancing, and administering, the per-pupil facilities aid program.

Applicants that are provisionally selected to receive grants will not receive grant funds unless they demonstrate, by September 1, 2024, that they are, or will be able to, provide the State share required under this program.

b. Supplement-Not-Supplant: This program involves supplement-not-supplant funding requirements. Under section 4110 of the ESEA (20 U.S.C. 7120), program funds must be used to supplement, and not supplant, State and local public funds expended to provide per-pupil facilities aid programs, operations financing programs, or other programs, for charter schools. Therefore, the Federal funds provided under this program, as well as the matching funds provided by the grantee, must be in addition to the State and local funds that would otherwise be used for this purpose in the absence of this Federal program. The Department generally considers that State and local funds would be available for this purpose at least in the amount of the funds that was available in the preceding year and that the Federal funds and matching funds under this program would supplement that amount.

c. Indirect Cost Rate Information: This program uses a restricted indirect cost rate. For more information regarding indirect costs, or to obtain a negotiated indirect cost rate, please see www2.ed.gov/about/offices/list/ocfo/intro.html.

d. Administrative Cost Limitation: State grantees may use up to five percent of their grant award for administrative expenses that include: indirect costs, evaluation, technical assistance, dissemination, personnel costs, and any other costs involved in administering the State's per-pupil facilities aid program. (34 CFR 226.22)

Charter school subgrantees may use grant funds for administrative costs that are necessary and reasonable for the proper and efficient performance and administration of this Federal grant. This use of funds, as well as indirect costs and rates, must comply with EDGAR and the Office of Management and Budget Circular A-87 (Cost Principles for State, Local, and Indian Tribal Governments).

Consistent with the requirements in 34 CFR 75.564(c)(2), any charter school subgrantees that use grant funds for construction activities may not be reimbursed for indirect costs for those activities. (34 CFR 226.23)

3. Build America, Buy America Act: This program is subject to the Build America, Buy America Act (Pub. L. 117-58) domestic sourcing requirements. Accordingly, under this program, grantees and contractors may not use their grant funds for infrastructure projects or activities (e.g., construction, remodeling, and broadband infrastructure) unless—

(a) All iron and steel used in the infrastructure project or activity are produced in the United States;

(b) All manufactured products used in the infrastructure project or activity are produced in the United States; and

(c) All construction materials are manufactured in the United States.

Grantees may request waivers to these requirements by submitting a Build America, Buy America Act Waiver Request Form. For more information, including a link to the Waiver Request Form, see the Department's Build America Buy America Waiver website at: https://www2.ed.gov/policy/fund/guid/buy-america/index.html.

4. Other: The charter schools that a grantee selects to benefit from this program must meet the definition of charter school in in section 4310(2) of the ESEA (20 U.S.C. 7221i(2)). The definitions of charter school, per-pupil facilities aid programs, and authorized public chartering agency are in sections 4310(2), 4304(k)(1), and 4310(1) of the ESEA (20 U.S.C. 7221) and included in this notice. Additionally, with respect to component (B) of the definition of “charter school,” which requires that a school be a public school operated under public supervision and direction, each charter school selected to benefit from this program must assure the grantee that is has not relinquished full or substantial control of the charter school to a for-profit management organization (also referred to as an education management organization) or other for-profit entity; and each charter school must assure the grantee that it is fiscally responsible and transparent, particularly with respect to contractual relationships with for-profit management organizations. To fulfill this requirement, in selecting each charter school that it will serve under the State Incentive program, the grantee must obtain an assurance from the school that it meets each of the components of the definition of “charter school”in section 4310(2) of the ESEA).

IV. Application and Submission Information

1. Application Submission Instructions: Applicants are required to follow the Common Instructions for Applicants to Department of Education Discretionary Grant Programs, published in the Federal Register on December 7, 2022 (87 FR 75045), and available at https://www.federalregister.gov/documents/2022/12/07/2022-26554/common-instructions-for-applicants-to-department-of-education-discretionary-grant-programs, which contain requirements and information on how to submit an application.

2. Submission of Proprietary Information: Given the types of projects that may be proposed in applications for the State Charter School Facilities Incentive Grants Program, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: Under section 4304(k)(3)(B) of the ESEA, from the amount made available to a State through a grant under this program for a fiscal year, the State may reserve not more than five percent to carry out evaluations, to provide technical assistance, and to disseminate information. We reference additional regulations outlining funding restrictions in the Applicable Regulations section of this notice.

5. Recommended Page Limit: The application narrative is where you, the applicant, address the selection criteria that reviewers use to evaluate your application. We recommend that you (1) limit the application narrative to 40 pages and (2) use the following standards:

• A “page” is 8.5″ x 11″ , on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

Furthermore, applicants are strongly encouraged to include a table of contents that specifies where each required part of the application is located.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name, a contact person's name and email address, and the Assistance Listing Number. Applicants that do not submit a notice of intent to apply may still apply for funding.

V. Application Review Information

1. Selection Criteria: The selection criteria for this program are from 34 CFR 226.12. The maximum score for addressing all of the selection criteria is 100 points. The maximum score for addressing each criterion is indicated in parentheses and are as follows:

(a) Need for facility funding (30 points).

(1) The need for per-pupil charter school facility funding in the State.

(2) The extent to which the proposal meets the need to fund charter school facilities on a per-pupil basis.

(b) Quality of plan (40 points).

(1) The likelihood that the proposed grant project will result in the State either retaining a new per-pupil facilities aid program or continuing to enhance such a program without the total amount of assistance (State and Federal) declining over a five-year period.

(2) The flexibility charter schools have in their use of facility funds for the various authorized purposes.

(3) The quality of the plan for identifying charter schools and determining their eligibility to receive funds.

(4) The per-pupil facilities aid formula's ability to target resources to charter schools with the greatest need and the highest proportions of students in poverty.

(5) For projects that plan to reserve funds for evaluation, the quality of the applicant's plan to use grant funds for this purpose.

(6) For projects that plan to reserve funds for technical assistance, dissemination, or personnel, the quality of the applicant's plan to use grant funds for these purposes.

(c) The grant project team (10 points).

(1) The qualifications, including relevant training and experience, of the project manager and other members of the grant project team, including employees not paid with grant funds, consultants, and subcontractors.

(2) The adequacy and appropriateness of the applicant's staffing plan for the grant project.

(d) The budget (10 points).

(1) The extent to which the requested grant amount and the project costs are reasonable in relation to the objectives, design, and potential significance of the proposed grant project.

(2) The extent to which the costs are reasonable in relation to the number of students served and to the anticipated results and benefits.

(3) The extent to which the non-Federal share exceeds the minimum percentages (which are based on the percentages under section 4304(k)(2)(C) of the ESEA), particularly in the initial years of the program.

(e) State Experience (10 points).

(1) The experience of the State in addressing the facility needs of charter schools through various means, including providing per-pupil aid and access to State loan or bonding pools.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Note: As described in 34 CFR 226.14(c), the Secretary may elect to consider the points awarded under the competitive preference priority only for proposals that exhibit sufficient quality to warrant funding under the selection criteria.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice. We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee or subgrantee that is awarded competitive grant funds must have a plan to disseminate these public grant deliverables. This dissemination plan can be developed and submitted after your application has been reviewed and selected for funding. For additional information on the open licensing requirements please refer to 2 CFR 3474.20(c).

4. Reporting:

(a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The performance measures for this program are established for purposes of Department reporting under 34 CFR 75.110.

(a) Program Performance Measures. The performance measure for this program is the ratio of funds leveraged by States for charter school facilities to funds awarded by the Department under the program. Grantees must provide information that is responsive to this measure as part of their annual performance reports.

(b) Project-Specific Performance Measures. Applicants must propose project-specific performance measures and performance targets consistent with the objectives of the project and program. Applicants must provide the following information as directed under 34 CFR 75.110(b):

(1) Project Performance Measures. How each proposed project-specific performance measure would accurately measure the performance of the project and how the proposed project-specific performance measure would be consistent with the performance measures established for the program funding the competition.

(2) Project Performance Targets. Why each proposed performance target is ambitious yet achievable compared to the baseline for the performance measure and when, during the project period, the applicant would meet the performance target(s).

Note: The Secretary encourages applicants to consider measures and targets tied to their grant activities during the grant period. For instance, if an applicant is using eligibility for free and reduced-price lunch to measure the number of low-income families served by the project, the applicant could provide a percentage for students qualifying for free and reduced-price lunch. The measures should be sufficient to gauge the progress throughout the grant period and show results by the end of the grant period.

(3) Data Collection and Reporting. (i) The data collection and reporting methods the applicant would use and why those methods are likely to yield reliable, valid, and meaningful performance data; and (ii) The applicant's capacity to collect and report reliable, valid, and meaningful performance data, as evidenced by high-quality data collection, analysis, and reporting in other projects or research.

Note: If applicants do not have experience with collection and reporting of performance data through other projects or research, they should provide other evidence of their capacity to successfully carry out data collection and reporting for their proposed project.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

7. Project Directors' Meeting: Applicants approved for funding under this competition must attend a meeting for project directors at a location to be determined in the continental United States during each year of the project. Applicants may include the cost of attending this meeting as an administrative cost in their proposed budgets.

8. Technical Assistance: Grantees under this competition must participate in all program technical assistance offerings provided by the Department and its contractual technical assistance providers and partners throughout the life of the project.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Adam Schott,
Principal Deputy Assistant Secretary, Delegated the Authority To Perform the Functions and Duties of the Assistant Secretary for the Office Elementary and Secondary Education.

[FR Doc. 2024-08731 Filed 4-23-24; 8:45 am]

BILLING CODE 4000-01-P